DEPARTMENT OF COMMERCE

National Oceanic and Atmospheric Administration

Federal Consistency Appeal by Millennium Pipeline From an Objection by the New York Department of State

AGENCY: National Oceanic and Atmospheric Administration (NOAA), Department of Commerce (Commerce).

ACTION: Notice of closure—administrative appeal decision record.

SUMMARY: This announcement provides notice that the decision record has been closed for an administrative appeal filed with the Department of Commerce by the Millennium Pipeline Company (Consistency Appeal of Millennium Pipeline Company, L.P.).

DATES: The decision record for the Millennium Pipeline Company's administrative appeal was closed on July 24, 2003.

ADDRESSES: Materials from the appeal record are available at the Internet site http://www.orc.doc.gov/czma.htm and at the Office of the General Counsel for Ocean Services, National Oceanic and Atmospheric Administration, U.S. Department of Commerce, 1305 East-West Highway, Silver Spring, MD 20910.

FOR FURTHER INFORMATION CONTACT: Branden Blum, Senior Counselor, Office of the General Counsel for Ocean Services, via e-mail at gcos.inquiries@noa.gov, or at 301-713-2967, extension 186.

SUPPLEMENTARY INFORMATION: In June 2002, the Millennium Pipeline Company, L.P. (Millennium or Appellant) filed a notice of appeal with the Secretary of Commerce (Secretary) pursuant to section 307(c)(3)(A) of the Coastal Zone Management Act of 1972 (CZMA), as amended 16 U.S.C. 1451 et seq., and the Department of Commerce's implementing regulations, 15 CFR part 930, subpart H, (revised, effective January 8, 2001). The appeal was taken from an objection by the New York Department of State (State) to Millennium's consistency certification for U.S. Army Corps of Engineers and Federal Energy Regulatory Commission permits to construct and operate a natural gas pipeline spanning approximately 420 miles from the U.S./Canada border to a terminus outside of New York City. The certification indicated that the project is a consistent with New York State's coastal management program. The project would traverse Lake Erie and cross the Hudson River, affecting the natural resources or land and water uses of New York's coastal zone.

The Appellant requested the Secretary to override the State's consistency objection for a procedural reason, concerning the timing of the State's objection to the Millennium project. The Appellant also requested an override of the State's objection on the two substantive grounds provided in the CZMA. The first ground requires the Secretary to determine that the proposed activity is “consistent with the objective” of the CZMA. The second substantive ground for overriding a State's objection considers whether the proposed activity is necessary in the interest of national security. Decisions for CZMA administrative appeals are based on information contained in a decision record. The Millennium appeal decision record includes materials submitted by the parties, the public and interested federal agencies, and was closed on July 24, 2003. It is expected that no further information, briefs or comments will be considered in deciding the appeal.

The CZMA requires that a notice be published in the Federal Register indicting the date on which the decision record has been closed. 16 U.S.C. 1465(a). A final decision of the Millennium appeal is to be issued no later than 90 days after the date of publication of this notice. 16 U.S.C. 1465(a). The deadline may be extended by publishing (within the 90-day period) a subsequent notice explaining why a decision cannot be issued within the time frame. In this event, a final decision is to be issued no later that 45 days after the date of publication of the subsequent notice. 16 U.S.C. 1465(b).

Additional information about the Millennium appeal and the CZMA appeals process is available from the Department of Commerce CZMA appeals Web site http://www.ogc.doc.gov/czma.htm.

(Federal Domestic Assistance Catalog No. 11.419 Coastal Zone Management Program Assistance.)
Dated: July 28, 2003.
James R. Walpole,
General Counsel.

[FR Doc. 03-19591 Filed 8-1-03; 8:45 am]

BILLING CODE 3510-08-M